DEPARTMENT OF THE TREASURY

Customs Service

Wool Manufacturer Payment Clarification and Technical Corrections Act

Correction

In notice document 02-20478 beginning on page 52520 in the issue of Monday, August 12, 2002 make the following correction:

On page 52520, in the third column, in the second full paragraph, in the 15th line, after “their” delete “4”.

[FR Doc. C2-20478 Filed 8-19-02; 8:45 am]

BILLING CODE 1505-01-D

DEPARTMENT OF THE TREASURY

Customs Service

19 CFR Part 122

[T.D. 02-40]

RIN 1515-AD04

Access to Customs Security Areas at Airports

Correction

In the issue of Friday, August 9, 2002, on page 51928, in the third column, in the correction of rule document 02-19055, in § 122.187, in amendatory instruction 5., in the fourth line, “may choose” should read “he may choose”.

[FR Doc. C2-19055 Filed 8-19-02; 8:45 am]

BILLING CODE 1505-01-D

OFFICE OF MANAGEMENT AND BUDGET

Standard Data Elements for Electronically Posting Synopses of Federal Agencies' Financial Assistance Program Announcements at FedBizOpps

Correction

In notice document 02-20261 beginning on page 52554 in the issue of Monday, August 12, 2002, make the following correction:

On page 52557, at the top of the page, the table is corrected in part to read as follows:

Data element | Description | Required?
How to get full announcement | Hypertext stating where to get the full announcement. If it is available on the Internet, this field should include the descriptor that precedes the URL for the full announcement (e.g., “Click on the following link to see the full text of the announcement for this funding opportunity:”) | Required.
Electronic link to full announcement | The URL for the full announcement, if it is on the Internet | Optional.
Eligible applicants | Designed to help potential applicants narrow their searches to programs where they are most likely to be eligible (although they still must read the full announcement for details because eligibility may be further limited to certain subsets of applicants within the categories below). | Required to either select “99” for unrestricted or select all others that apply.
| 99 = Unrestricted (i.e., open to any type of entity below)

[FR Doc. C2-20261 Filed 8-19-02; 8:45 am]

BILLING CODE 1505-01-D